DEPARTMENT OF JUSTICE

Notice of Lodging of Proposed First Amendment to Consent Decree Under the Clean Water Act

On April 30, 2013, the Department of Justice lodged a proposed first amendment to a consent decree with the United States District Court for the Northern District of Ohio in the lawsuit entitled United States, et al. v. City of Fostoria, Ohio, Civil Action No. 3:06 CV 1626, consolidated with 3:06 CV 1627.

Under the original 2006 consent decree, the City of Fostoria, Ohio (“Fostoria”) agreed to undertake numerous measures to come into compliance with the Clean Water Act, including developing and implementing a Long-Term Control Plan (“LTCP”). Fostoria still is in the process of complying with the 2006 Decree. However, under the proposed first amendment, the completion of the construction required by the recent, conditionally-approved LTCP is extended from December 31, 2025, to December 31, 2029.

The publication of this notice opens a period of public comment on the first amendment. Comments should be addressed to the Assistant Attorney General, Environment and Natural Resources Division, and should refer to United States, et al. v. City of Fostoria, Ohio, D.J. Ref. No. 90-5-1-1-08204. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the first amendment may be examined and downloaded at this Department of Justice Web site: http://www.usdoj.gov/enrd/Consent_Decrees.html. We will provide a paper copy of the first amendment upon written request and payment of reproduction costs. Please mail your request and payment to: Consent Decree Library, U.S. DOJ—ENRD, P.O. Box 7611, Washington, DC 20044-7611.

Please enclose a check in the amount of $ 2.25 (25 cents per page reproduction cost) payable to the United States Treasury.

Maureen Katz,
Assistant Section Chief, Environmental Enforcement Section, Environment and Natural Resources Division.

[FR Doc. 2013-10798 Filed 5-6-13; 8:45 am]

BILLING CODE 4410-15-P